DEPARTMENT OF COMMERCE

National Oceanic and Atmospheric Administration

[I.D. 070306C]

Vessel Monitoring Systems; Amendment to the Announcement of Mobile Transmitter Unit and Enhanced Mobile Transmitter Unit Reimbursement Program; Additional Eligibility Criteria

AGENCY: National Marine Fisheries Service (NMFS), National Oceanic and Atmospheric Administration (NOAA), Commerce.

ACTION: Amendment to the notice of vessel monitoring systems reimbursement program.

SUMMARY: On July 21, 2006, NMFS announced the availability of approximately $4.5 million in grant funds for fiscal year (FY) 2006 for vessel owners and/or operators who have purchased a Mobile Transmitter Unit (MTU) or Enhanced-Mobile Transmitter Unit (E-MTU) for the purpose of complying with fishery regulations requiring the use of Vessel Monitoring Systems (VMS) which became effective during FY 2006. The funds will be used to reimburse vessel owners and/or operators for the purchase price of the MTU or E-MTU. These amendments are intended to correct the contact information for the Pacific States Marine Fisheries Commission (PSMFC) located under FOR FURTHER INFORMATION CONTACT and ADDRESSES and to declare an additional reimbursement eligibility criteria.

ADDRESSES: The correct contact information for a reimbursement application is Pacific States Marine Fisheries Commission (PSMFC), 205 SE Spokane Street, Suite 100, Portland, OR 97202, phone 503-595-3100, fax 503-595-3232.

To obtain copies of the list of NOAA-approved VMS mobile transmitting units and NOAA-approved VMS communications service providers write to the VMS Support Center, NOAA Fisheries Office for Law Enforcement (OLE), 8484 Georgia Avenue, Suite 415, Silver Spring, MD 20910.

FOR FURTHER INFORMATION CONTACT: The correct contact information for questions regarding reimbursement applications is Randy Fisher, Executive Director, Pacific States Marine Fisheries Commission (PSMFC), 205 SE Spokane Street, Suite 100, Portland, OR 97202, phone 503-595-3100, fax 503-595-3232.

For questions regarding MTU or E-MTU type approval or information regarding the status of VMS systems being evaluated by NOAA for approval, contact Jonathan Pinkerton, National VMS Program Manager, phone 301-427-2300; fax 301-427-0049.

For questions regarding VMS installation or activation checklists, contact the VMS Support Center, NOAA Fisheries Office for Law Enforcement (OLE), 8484 Georgia Avenue, Suite 415, Silver Spring, MD 20910, phone 888-219-9228, fax 301-427-0049.

SUPPLEMENTARY INFORMATION: In addition to the eligibility requirements detailed in the July 21, 2006 (71 FR 41425) notice, the following requirement regarding vessel owners and/or operators with outstanding unpaid civil monetary penalties shall also apply.

Additional Eligibility Criteria

To be eligible to receive reimbursement vessel owners and/or operators must not be in arrears with a payment owed to the Agency for a civil monetary penalty. Affected vessel owners and/or operators may become eligible for the reimbursement if the outstanding penalty is paid in full within 30 days of the denial of the reimbursement. After payment, vessel owners and/or operators must contact the VMS Support Center and provide documentation to support the defrayment of the penalty to receive a confirmation code for reimbursement purposes.

Dated: July 25, 2006.
William T. Hogarth,
Assistant Administrator for Fisheries, National Marine Fishery Service.

[FR Doc. E6-12125 Filed 7-27-06; 8:45 am]

BILLING CODE 3510-22-S